DEPARTMENT OF TRANSPORTATION

Federal Aviation Administration

14 CFR Part 39

[Docket No. 2001-NM-289-AD; Amendment 39-13068; AD 2003-04-19]

RIN 2120-AA64

Airworthiness Directives; Fokker Model F.28 Mark 0070 and 0100 Series Airplanes

AGENCY: Federal Aviation Administration, DOT.

ACTION: Final rule.

SUMMARY: This amendment adopts a new airworthiness directive (AD), applicable to all Fokker Model F.28 Mark 0070 and 0100 series airplanes, that requires a one-time general visual inspection to detect any missing attachment bolts in the replaceable frame struts, and corrective actions, if necessary. This action is necessary to prevent excessive deformation of the floor structure in the event of rapid decompression in the lower cargo hold due to missing attachment bolts in the replaceable frame struts. Such deformation may result in the flight and engine control cables becoming jammed, and consequent reduced controllability of the airplane. This action is intended to address the identified unsafe condition.

DATES: Effective April 4, 2003.

The incorporation by reference of certain publications listed in the regulations is approved by the Director of the Federal Register as of April 4, 2003.

ADDRESSES: The service information referenced in this AD may be obtained from Fokker Services B.V., P.O. Box 231, 2150 AE Nieuw-Vennep, the Netherlands. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to all Fokker Model F.28 Mark 0070 and 0100 series airplanes was published in the Federal Register on March 28, 2002 (67 FR 14891). That action proposed to require a one-time general visual inspection to detect any missing attachment bolts in the replaceable frame struts, and corrective actions, if necessary.

Comments

Interested persons have been afforded an opportunity to participate in the making of this amendment. Due consideration has been given to the comments received.

Support for the Proposed Rule

One commenter supports the proposed rule.

Request To Reference Latest Service Information

One commenter requests that Revision 1 to Fokker Service Bulletin SBF100-53-096 be cited as an acceptable source of service information for compliance with the proposed AD. That revision adds two figures to the service bulletin that are applicable to the operator's fleet.

The commenter also states that it notified the manufacturer of typographical errors in Figures 2 and 17 of the service bulletin. The manufacturer informed the commenter that a Service Bulletin Change Notification (SBCN) to correct the typographical errors would be issued. The commenter requests that a statement allowing the use of future service bulletin revisions and SBCNs be included in the proposed AD.

The FAA concurs with the commenter's request to reference Revision 1 of the service bulletin and the applicable SBCN. Since the issuance of the proposed AD, the manufacturer has issued Fokker Service Bulletin SBF100-53-096, Revision 1, dated November 22, 2001; and Fokker SBCN SBF100-53-096/02, dated January 28, 2002. The proposed rule references the original issue of the service bulletin, dated April 11, 2001, as the appropriate source of service information for accomplishment of the proposed inspection. The actions in Revision 1 are essentially similar to those in the original issue of the service bulletin. The SBCN corrects typographical errors to part numbers in Figures 2 and 17 of the service bulletin. Part number NAS694V6 in Figure 2 has been changed to NAS674V6. Part number NAS695V10 in Figure 17 has been changed to NAS675V10. The manufacturer notified the FAA that bolts having part numbers NAS694V6 and NAS695V10 do not exist.

We have revised paragraph (a) of the final rule to reference Revision 1 of the service bulletin, including SBCN SBF100-53-096/02 as the appropriate source of service information. We have also included new paragraphs (b) and (d) in this final rule (and re-lettered other paragraphs accordingly) to give credit for inspections and corrective actions accomplished before the effective date of this AD per the original issue of the service bulletin.

Request To Include Alternative Methods of Compliance

One commenter requests that the proposed AD include a statement allowing the use of alternate and interchangeable fasteners approved by Fokker. The commenter states that Fokker Message TS01.60550, dated November 29, 2001, indicates approval from Fokker Services to use interchangeable parts. In regard to the commenter's fleet, the service bulletin lists parts that are inactive and have an interchangeable list or an alternate parts list.

The FAA does not concur with this comment. Paragraph (c)(2) of the final rule allows operators to make repairs per a method approved by either the FAA or the Civil Aviation Authority—The Netherlands (CAA-NL) (or its delegated agent). If an operator wants to make a repair using a part other than the one specified in the service bulletin, that paragraph allows the operator to contact the FAA or CAA-NL (or its delegated agent) for approval.

Request To Revise Cost Impact

One commenter states that it has begun inspections of the affected aircraft in accordance with Fokker Service Bulletin SBF100-53-096, Revision 1, dated November 22, 2001. Based on this commenter's experience, 12 work hours per airplane are required to accomplish the inspections.

From this comment the FAA infers that the commenter is requesting that the Cost Impact section of the proposed AD be revised. The FAA does not concur. The cost impact information describes only the “direct” costs of the general one-time visual inspection required by the proposed AD. The number of work hours necessary to accomplish the required general visual inspection, specified as 1 work hour in the cost impact information, was provided to the FAA by the manufacturer based on the best data available to date. The economic analysis of the AD is limited only to the cost of actions actually required by the rule. It does not consider the costs of “on condition” actions required if, during the one-time general visual inspection required by the proposed AD, any attachment bolts are found missing. The “on condition” actions include additional general visual inspections to detect deformations or cracks in the affected floor beams and the fuselage frame C-channels at the strut attachment. Such “on-condition” corrective actions would be required to be accomplished, regardless of AD direction, in order to correct an unsafe condition identified in an airplane and to ensure operation of the airplane in an airworthy condition, as required by the Federal Aviation Regulations.

Conclusion

After careful review of the available data, including the comments noted above, the FAA has determined that air safety and the public interest require the adoption of the rule with the changes described previously. The FAA has determined that these changes will neither increase the economic burden on any operator nor increase the scope of the AD.

Cost Impact

The FAA estimates that 139 airplanes of U.S. registry will be affected by this AD, that it will take approximately 1 work hour per airplane to accomplish the required inspection, and that the average labor rate is $60 per work hour. Based on these figures, the cost impact of the AD on U.S. operators is estimated to be $8,340, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-04-19 Fokker Services B.V.: Amendment 39-13068. Docket 2001-NM-289-AD.

Applicability: All Model F.28 Mark 0070 and 0100 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent excessive deformation of the floor structure to the extent that flight and engine control cables might jam, accomplish the following:

Inspection

(a) Within 14 months after the effective date of this AD, do a one-time general visual inspection to detect any missing attachment bolts in the replaceable frame struts per Part 1, Part 2, and Part 3 of the Accomplishment Instructions of Fokker Service Bulletin SBF100-53-096, Revision 1, dated November 22, 2001, including Fokker Service Bulletin Change Notification SBF100-53-096/02, dated January 28, 2002; as applicable.

(b) Inspections accomplished prior to the effective date of this AD per Fokker Service Bulletin SBF100-53-096, original issue, dated April 11, 2001, are acceptable for compliance with the requirements of paragraph (a) of this AD.

Corrective Actions

(c) If any attachment bolts are found missing during the inspection required by paragraph (a) of this AD, before further flight, do the actions specified in paragraphs (c)(1) and (c)(2) of this AD.

(1) Drill a new hole and install a new bolt (including nut and washer), per the Accomplishment Instructions of Fokker Service Bulletin SBF100-53-096, Revision 1, dated November 22, 2001, including Fokker Service Bulletin Change Notification SBF100-53-096/02, dated January 28, 2002.

(2) Do a general visual inspection to detect any deformation or crack in the affected floor beams and the fuselage frame C-channel at the strut attachment. If any deformation or crack exists, before further flight, repair per a method approved by either the Manager, International Branch, ANM-116, FAA, Transport Airplane Directorate; or the Civil Aviation Authority—The Netherlands (CAA-NL) (or its delegated agent).

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(d) Corrective actions accomplished prior to the effective date of this AD per Fokker Service Bulletin SBF100-53-096, original issue, dated April 11, 2001, are acceptable for compliance with the requirements of paragraphs (c)(1) and (c)(2) of this AD.

Alternative Methods of Compliance

(e) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Incorporation by Reference

(g) Unless otherwise specified in this AD, the actions shall be done in accordance with Fokker Service Bulletin SBF100-53-096, Revision 1, dated November 22, 2001, including Fokker Service Bulletin Change Notification SBF100-53-096/02, dated January 28, 2002. Fokker Service Bulletin SBF100-53-096, Revision 1, contains the following list of effective pages:

Page Nos. | Revision level shown on page | Date shown on page
1, 2, 7, 8, 10, 27-30 | 1 | November 22, 2001.
3-6, 9, 11-26 | Original | April 11, 2001.
Fokker Service Bulletin Change Notification SBF100-53-096/02
1, 3 | Original | January 28, 2002.
2 | Original | July 1, 2001.

This incorporation by reference was approved by the Director of the Federal Register in accordance with 5 U.S.C. 552(a) and 1 CFR part 51. Copies may be obtained from Fokker Services B.V., P.O. Box 231, 2150 AE Nieuw-Vennep, the Netherlands. Copies may be inspected at the FAA, Transport Airplane Directorate, 1601 Lind Avenue, SW., Renton, Washington; or at the Office of the Federal Register, 800 North Capitol Street, NW., suite 700, Washington, DC.

Note 4: The subject of this AD is addressed in Dutch airworthiness directive 2001-055, dated April 27, 2001.

Effective Date

(h) This amendment becomes effective on April 4, 2003.

Issued in Renton, Washington, on February 19, 2003.
Ali Bahrami,
Acting Manager, Transport Airplane Directorate, Aircraft Certification Service.

[FR Doc. 03-4348 Filed 2-27-03; 8:45 am]

BILLING CODE 4910-13-P